DEPARTMENT OF COMMERCE

United States Patent and Trademark Office

Submission for OMB Review; Comment Request; “Patent Review and Derivation Proceedings”

The Department of Commerce will submit to the Office of Management and Budget (OMB) for clearance the following proposal for collection of information under the provisions of the Paperwork Reduction Act (44 U.S.C. Chapter 35).

Agency: United States Patent and Trademark Office, Commerce.

Title: Patent Review and Derivation Proceedings.

OMB Control Number: 0651-0069.

Form Number(s):

• N/A

Type of Request: Regular.

Number of Respondents: 11,349 per year.

Average Minutes per Response: Average response of 128.6 hours, with response times ranging from 0.1-165.3 hours.

Burden Hours: 1,459,184.

Cost Burden: $60,404,425.50.

Needs and Uses: The public will use this new information collection to petition the Patent Trial and Appeal Board (PTAB) to seek institution of, and to participate in, inter partes reviews, post-grant reviews, covered business method patent reviews, and derivation proceedings. The PTAB will use the information collected under these final rulemakings in deciding the various proceedings. The PTAB disseminates information that it collects (unless filed under seal) through various publications and databases. This information includes the filings of the parties and decisions and orders by the Board in trials and derivation proceedings.

Affected Public: Individuals or households; businesses or other for-profit institutions; not-for-profit institutions.

Frequency: On occasion.

Respondent's Obligation: Required to obtain or retain benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0069 copy request” in the subject line of the message.

• Mail: Joseph Rivera, Deputy Director, Office of Information Management Services, United States Patent and Trademark Office, P.O. Box 1450, Alexandria, VA 22313-1450.

Written comments and recommendations for the proposed information collection should be sent on or before October 23, 2015 to Nicholas A. Fraser, OMB Desk Officer, via email to Nicholas_A._Fraser@omb.eop.gov, or by fax to 202-395-5167, marked to the attention of Nicholas A. Fraser.

Dated: September 16, 2015.
Joseph Rivera,
Deputy Director, Office of Information Management Services, USPTO, Office of the Chief Information Officer.

[FR Doc. 2015-24142 Filed 9-22-15; 8:45 am]

BILLING CODE 3510-16-P